DEPARTMENT OF COMMERCE

International Trade Administration

[A-821-801, A-823-801]

Solid Urea From the Russian Federation and Ukraine: Final Results of Sunset Reviews and Revocation of Antidumping Duty Orders

AGENCY: Enforcement and Compliance, International Trade Administration, Department of Commerce.

SUMMARY: On November 1, 2016, the Department of Commerce (Department) initiated the sunset reviews of the antidumping duty orders on solid urea from the Russian Federation and Ukraine. Because the domestic interested parties did not participate in these sunset reviews, the Department is revoking these antidumping duty orders.

DATES: Effective December 20, 2016.

FOR FURTHER INFORMATION CONTACT: Robert James or John Anwesen, AD/CVD Operations, Office VIII, Enforcement and Compliance, International Trade Administration, U.S. Department of Commerce, 14th Street and Constitution Avenue NW., Washington, DC 20230; telephone: 202-482-0649 and 202-482-0131, respectively.

SUPPLEMENTARY INFORMATION:

Background

On July 14, 1987, the Department issued an antidumping duty order on solid urea from the Union of Soviet Socialist Republics (USSR).¹ In December 1991, the USSR divided into 15 republics. In response to the dissolution, the Department transferred the original order to all 15 republics and applied a uniform cash deposit rate.²

¹ See Urea from the Union of Soviet Socialist Republics, 52 FR 26367 (July 14, 1987).

² See Solid Urea from the Union of Soviet Socialist Republics; Transfer of the Antidumping Duty Order on Solid Urea from the Union of Soviet Socialist Republics to the Commonwealth of Independent States and the Baltic States and Opportunity to Comment, 57 FR 28828 (June 29, 1992).

On March 1, 1999, the Department initiated sunset reviews on these orders and later published its notice of continuation of the antidumping duty orders for certain countries.³ On October 1, 2004, the Department initiated the second sunset reviews of these orders and later published its notice of continuation of the antidumping duty orders on solid urea from the Russian Federation and Ukraine.⁴ On December 1, 2010, the Department initiated the third sunset reviews of these orders and later published its notice of continuation of the antidumping duty orders.⁵ On November 1, 2016, the Department initiated the fourth sunset reviews of these orders.⁶

³ See Continuation of Antidumping Duty Orders: Solid Urea from Belarus, Estonia, Lithuania, Romania, Russia, Tajikistan, Turkmenistan, Ukraine, and Uzbekistan, 64 FR 62653 (November 17, 1999); see also Antidumping Duty Order; Urea from the Socialist Republic of Romania, 52 FR 2636 (July 14, 1987) and Final Results of Expedited Sunset Review: Solid Urea from Romania, 64 FR 48360 (September 3, 1999) (Because Romania was not part of the USSR, the initial investigation and the first five-year review on urea from Romania were conducted separately, but the continuation order combined the remaining former Soviet Socialist Republics and Romania together.); Revocation of Antidumping Duty Order: Solid Urea from Armenia, 64 FR 62654 (November 17, 1999); March 1999 Sunset Reviews: Final Results and Revocations, 64 FR 24137 (May 5, 1999) (revoking the antidumping duty orders on solid urea from Azerbaijan, Georgia, Kazakhstan, Kyrgyzstan, and Moldova); and March and April 1999 Sunset Reviews: Final Results and Revocations, 64 FR 28974 (May 28, 1999) (revoking the antidumping duty order on solid urea from Latvia).

⁴ See Notice of Continuation of Antidumping Duty Orders: Solid Urea from the Russian Federation and Ukraine, 71 FR 581 (January 5, 2006); see also Solid Urea from Belarus, Estonia, Lithuania, Romania, Tajikistan, Turkmenistan, and Uzbekistan: Final Results and Revocation of Orders, 69 FR 77993 (December 29, 2004).

⁵ Solid Urea from the Russian Federation and Ukraine: Continuation of Antidumping Duty Orders, 76 FR 78885 (December 20, 2011).

⁶ See Initiation of Five-Year (“Sunset”) Reviews, 81 FR 75808 (November 1, 2016).

We did not receive a notice of intent to participate from domestic interested parties in these fourth sunset reviews by the deadline date.⁷ As a result, the Department determined that no domestic interested party intends to participate in the sunset reviews,⁸ and on November 21, 2016, we notified the International Trade Commission, in writing, that we intended to issue a final determination revoking these antidumping duty orders.⁹ On December 1, 2016, the Department received a submission from the Ministry of Economic Development and Trade of Ukraine regarding its position on this matter.¹⁰

⁷ See 19 CFR 351.218(d)(1)(i).

⁸ See 19 CFR 351.218(d)(1)(iii)(A).

⁹ See 19 CFR 351.218(d)(1)(iii)(B)(2).

¹⁰ See Letter from Ministry of Economic Development and Trade of Ukraine, “Solid Urea from Ukraine, 4th Sunset Review: A-823-801,” dated December 1, 2016.

Scope of the Orders

The merchandise subject to the orders is solid urea, a high-nitrogen content fertilizer which is produced by reacting ammonia with carbon dioxide. The product is currently classified under the Harmonized Tariff Schedule of the United States (HTSUS) item number 3102.10.00.00. Previously such merchandise was classified under item number 480.3000 of the Tariff Schedules of the United States. Although the HTSUS subheading is provided for convenience and customs purposes, the written description of the merchandise subject to the orders is dispositive.

Determination To Revoke

Pursuant to section 751(c)(3)(A) of the Tariff Act of 1930, as amended (the Act), and 19 CFR 351.218(d)(1)(iii)(B)(3), if no domestic interested party files a notice of intent to participate, the Department shall, within 90 days after the initiation of the review, issue a final determination revoking the order. Because the domestic interested parties did not file a notice of intent to participate in these sunset reviews, the Department finds that no domestic interested party is participating in these sunset reviews. Therefore, consistent with 19 CFR 351.222(i)(2)(i) we are revoking these antidumping duty orders effective December 20, 2016, the fifth anniversary of the date the Department published its most recent notice of continuation of the antidumping duty orders.

Effective Date of Revocation

Pursuant to section 751(c)(3)(A) of the Act and 19 CFR 351.222(i)(2)(i), the Department will instruct U.S. Customs and Border Protection to terminate the suspension of liquidation of the merchandise subject to these orders entered, or withdrawn from warehouse, on or after December 20, 2016. Entries of subject merchandise prior to the effective date of revocation will continue to be subject to suspension of liquidation and antidumping duty deposit requirements. The Department will complete any pending administrative reviews of these orders and will conduct administrative reviews of subject merchandise entered prior to the effective date of revocation in response to appropriately filed requests for review.

We are issuing and publishing the final determination in these five-year (sunset) reviews and notice in accordance with sections 751(c) and 777(i)(1) of the Act.

Dated: December 23, 2016.
Paul Piquado,
Assistant Secretary for Enforcement and Compliance.

[FR Doc. 2016-31719 Filed 12-29-16; 8:45 am]

BILLING CODE 3510-DS-P